DEPARTMENT OF TRANSPORTATION

Federal Aviation Administration

[Policy Statement No. ANM-03-117-10]

Identification of Flight Critical System Components

AGENCY: Federal Aviation Administration (FAA), DOT.

ACTION: Notice of proposed policy; request for comments.

SUMMARY: The Federal Aviation Administration (FAA) announces the availability of proposed policy on defining flight critical system components for use in existing design and certification guidance, and developing guidance for continuing airworthiness and maintenance processes.

DATES: Send your comments on or before April 11, 2003.

ADDRESSES: Address your comments to the individual identified under FOR FURTHER INFORMATION CONTACT.

FOR FURTHER INFORMATION CONTACT: Linh Le, Federal Aviation Administration, Transport Airplane Directorate, Transport Standards Staff, Safety Management Branch, ANM-117, 1601 Lind Avenue, SW., Renton, WA 98055-4056; telephone (425) 227-1105; fax (425) 227-1100; e-mail: linh.le@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-117-10.”

Use the following format when preparing your comments:

• Organize your comments issue-by-issue.

• For each issue, state what specific change you are requesting to the proposed policy.

• Include justification, reasons, or data for each change you are requesting.

Include justification, reasons, or data for each change you are requesting.

We also welcome comments in support of the proposed policy.

We will consider all communications received on or before the closing date for comments. We may change the proposed policy because of the comments received.

Background

The proposed policy pertains to defining flight critical system components for use in existing design and certification guidance, and developing guidance for continuing airworthiness and maintenance processes. Under the auspices of the Safer Skies and the Commercial Airplane Certification Process Study initiatives, this memo puts into practice one or the Safer Skies recommendations. Information about Safer Skies is available on the Internet at the following address: http://ww2.faa.gov/index/cfm/apa/1267.

Issued in Renton, Washington, on March 3, 2003.
Ali Bahrami,
Acting Manager, Transport Airplane Directorate, Aircraft Certification Service.

[FR Doc. 03-5936 Filed 3-11-03; 8:45 am]

BILLING CODE 4910-13-M